NUCLEAR REGULATORY COMMISSION

[NRC-2015-0276]

Biweekly Notice; Applications and Amendments to Facility Operating Licenses and Combined Licenses Involving No Significant Hazards Considerations

AGENCY: Nuclear Regulatory Commission.

ACTION: Biweekly notice.

SUMMARY: Pursuant to Section 189a. (2) of the Atomic Energy Act of 1954, as amended (the Act), the U.S. Nuclear Regulatory Commission (NRC) is publishing this regular biweekly notice. The Act requires the Commission to publish notice of any amendments issued, or proposed to be issued, and grants the Commission the authority to issue and make immediately effective any amendment to an operating license or combined license, as applicable, upon a determination by the Commission that such amendment involves no significant hazards consideration, notwithstanding the pendency before the Commission of a request for a hearing from any person.

This biweekly notice includes all notices of amendments issued, or proposed to be issued from November 24, 2015, to December 7, 2015. The last biweekly notice was published on December 8, 2015.

DATES: Comments must be filed by January 21, 2016. A request for a hearing must be filed February 22, 2016.

ADDRESSES: You may submit comments by any of the following methods (unless this document describes a different method for submitting comments on a specific subject):

• Federal Rulemaking Web site: Go to http://www.regulations.gov and search for Docket ID NRC-2015-0276. Address questions about NRC dockets to Carol Gallagher; telephone: 301-415-3463; email: Carol.Gallagher@nrc.gov.

• Mail comments to: Cindy Bladey, Office of Administration, Mail Stop: OWFN-12-H08, U.S. Nuclear Regulatory Commission, Washington, DC 20555-0001.

For additional direction on obtaining information and submitting comments, see “Obtaining Information and Submitting Comments” in the SUPPLEMENTARY INFORMATION section of this document.

FOR FURTHER INFORMATION CONTACT: Lynn Ronewicz, Office of Nuclear Reactor Regulation, U.S. Nuclear Regulatory Commission, Washington DC 20555-0001; telephone: 301-415-1927, email: Lynn.Ronewicz@nrc.gov.

SUPPLEMENTARY INFORMATION:

I. Obtaining Information and Submitting Comments

A. Obtaining Information

Please refer to Docket ID NRC-2015-0276 when contacting the NRC about the availability of information for this action. You may obtain publicly-available information related to this action by any of the following methods:

• Federal Rulemaking Web site: Go to http://www.regulations.gov and search for Docket ID NRC-2015-0276.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in the SUPPLEMENTARY INFORMATION section of this document.

• NRC's PDR: You may examine and purchase copies of public documents at the NRC's PDR, Room O1-F21, One White Flint North, 11555 Rockville Pike, Rockville, Maryland 20852.

B. Submitting Comments

Please include Docket ID NRC-2015-0276, facility name, unit number(s), application date, and subject in your comment submission.

The NRC cautions you not to include identifying or contact information that you do not want to be publicly disclosed in your comment submission. The NRC posts all comment submissions at http://www.regulations.gov, as well as entering the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Notice of Consideration of Issuance of Amendments to Facility Operating Licenses and Combined Licenses and Proposed No Significant Hazards Consideration Determination

The Commission has made a proposed determination that the following amendment requests involve no significant hazards consideration. Under the Commission's regulations in § 50.92 of title 10 of the Code of Federal Regulations (10 CFR), this means that operation of the facility in accordance with the proposed amendment would not (1) involve a significant increase in the probability or consequences of an accident previously evaluated, (2) create the possibility of a new or different kind of accident from any accident previously evaluated, or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period should circumstances change during the 30-day comment period such that failure to act in a timely way would result, for example in derating or shutdown of the facility. Should the Commission take action prior to the expiration of either the comment period or the notice period, it will publish in the Federal Register a notice of issuance. Should the Commission make a final No Significant Hazards Consideration Determination, any hearing will take place after issuance. The Commission expects that the need to take this action will occur very infrequently.

A. Opportunity To Request a Hearing and Petition for Leave To Intervene

Within 60 days after the date of publication of this notice, any person(s) whose interest may be affected by this action may file a request for a hearing and a petition to intervene with respect to issuance of the amendment to the subject facility operating license or combined license. Requests for a hearing and a petition for leave to intervene shall be filed in accordance with the Commission's “Agency Rules of Practice and Procedure” in 10 CFR part 2. Interested person(s) should consult a current copy of 10 CFR 2.309, which is available at the NRC's PDR, located at One White Flint North, Room O1-F21, 11555 Rockville Pike (first floor), Rockville, Maryland 20852. The NRC's regulations are accessible electronically from the NRC Library on the NRC's Web site at http://www.nrc.gov/reading-rm/doc-collections/cfr/. If a request for a hearing or petition for leave to intervene is filed within 60 days, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also set forth the specific contentions which the requestor/petitioner seeks to have litigated at the proceeding.

Each contention must consist of a specific statement of the issue of law or fact to be raised or controverted. In addition, the requestor/petitioner shall provide a brief explanation of the bases for the contention and a concise statement of the alleged facts or expert opinion which support the contention and on which the requestor/petitioner intends to rely in proving the contention at the hearing. The requestor/petitioner must also provide references to those specific sources and documents of which the petitioner is aware and on which the requestor/petitioner intends to rely to establish those facts or expert opinion. The petition must include sufficient information to show that a genuine dispute exists with the applicant on a material issue of law or fact. Contentions shall be limited to matters within the scope of the amendment under consideration. The contention must be one which, if proven, would entitle the requestor/petitioner to relief. A requestor/petitioner who fails to satisfy these requirements with respect to at least one contention will not be permitted to participate as a party.

Those permitted to intervene become parties to the proceeding, subject to any limitations in the order granting leave to intervene, and have the opportunity to participate fully in the conduct of the hearing with respect to resolution of that person's admitted contentions, including the opportunity to present evidence and to submit a cross-examination plan for cross-examination of witnesses, consistent with NRC regulations, policies and procedures.

Petitions for leave to intervene must be filed no later than 60 days from the date of publication of this notice. Requests for hearing, petitions for leave to intervene, and motions for leave to file new or amended contentions that are filed after the 60-day deadline will not be entertained absent a determination by the presiding officer that the filing demonstrates good cause by satisfying the three factors in 10 CFR 2.309(c)(1)(i)-(iii).

If a hearing is requested, and the Commission has not made a final determination on the issue of no significant hazards consideration, the Commission will make a final determination on the issue of no significant hazards consideration. The final determination will serve to decide when the hearing is held. If the final determination is that the amendment request involves no significant hazards consideration, the Commission may issue the amendment and make it immediately effective, notwithstanding the request for a hearing. Any hearing held would take place after issuance of the amendment. If the final determination is that the amendment request involves a significant hazards consideration, then any hearing held would take place before the issuance of any amendment unless the Commission finds an imminent danger to the health or safety of the public, in which case it will issue an appropriate order or rule under 10 CFR part 2.

A State, local governmental body, Federally-recognized Indian Tribe, or agency thereof, may submit a petition to the Commission to participate as a party under 10 CFR 2.309(h)(1). The petition should state the nature and extent of the petitioner's interest in the proceeding. The petition should be submitted to the Commission by February 22, 2016. The petition must be filed in accordance with the filing instructions in the “Electronic Submissions (E-Filing)” section of this document, and should meet the requirements for petitions for leave to intervene set forth in this section, except that under § 2.309(h)(2) a State, local governmental body, or Federally-recognized Indian Tribe, or agency thereof does not need to address the standing requirements in 10 CFR 2.309(d) if the facility is located within its boundaries. A State, local governmental body, Federally-recognized Indian Tribe, or agency thereof may also have the opportunity to participate under 10 CFR 2.315(c).

If a hearing is granted, any person who does not wish, or is not qualified, to become a party to the proceeding may, in the discretion of the presiding officer, be permitted to make a limited appearance pursuant to the provisions of 10 CFR 2.315(a). A person making a limited appearance may make an oral or written statement of position on the issues, but may not otherwise participate in the proceeding. A limited appearance may be made at any session of the hearing or at any prehearing conference, subject to the limits and conditions as may be imposed by the presiding officer. Persons desiring to make a limited appearance are requested to inform the Secretary of the Commission by February 22, 2016.

B. Electronic Submissions (E-Filing)

All documents filed in NRC adjudicatory proceedings, including a request for hearing, a petition for leave to intervene, any motion or other document filed in the proceeding prior to the submission of a request for hearing or petition to intervene, and documents filed by interested governmental entities participating under 10 CFR 2.315(c), must be filed in accordance with the NRC's E-Filing rule (72 FR 49139; August 28, 2007). The E-Filing process requires participants to submit and serve all adjudicatory documents over the Internet, or in some cases to mail copies on electronic storage media. Participants may not submit paper copies of their filings unless they seek an exemption in accordance with the procedures described below.

To comply with the procedural requirements of E-Filing, at least 10 days prior to the filing deadline, the participant should contact the Office of the Secretary by email at hearing.docket@nrc.gov, or by telephone at 301-415-1677, to request (1) a digital identification (ID) certificate, which allows the participant (or its counsel or representative) to digitally sign documents and access the E-Submittal server for any proceeding in which it is participating; and (2) advise the Secretary that the participant will be submitting a request or petition for hearing (even in instances in which the participant, or its counsel or representative, already holds an NRC-issued digital ID certificate). Based upon this information, the Secretary will establish an electronic docket for the hearing in this proceeding if the Secretary has not already established an electronic docket.

Information about applying for a digital ID certificate is available on the NRC's public Web site at http://www.nrc.gov/site-help/e-submittals/getting-started.html. System requirements for accessing the E-Submittal server are detailed in the NRC's “Guidance for Electronic Submission,” which is available on the agency's public Web site at http://www.nrc.gov/site-help/e-submittals.html. Participants may attempt to use other software not listed on the Web site, but should note that the NRC's E-Filing system does not support unlisted software, and the NRC Meta System Help Desk will not be able to offer assistance in using unlisted software.

If a participant is electronically submitting a document to the NRC in accordance with the E-Filing rule, the participant must file the document using the NRC's online, Web-based submission form. In order to serve documents through the Electronic Information Exchange System, users will be required to install a Web browser plug-in from the NRC's Web site. Further information on the Web-based submission form, including the installation of the Web browser plug-in, is available on the NRC's public Web site at http://www.nrc.gov/site-help/e-submittals.html.

Once a participant has obtained a digital ID certificate and a docket has been created, the participant can then submit a request for hearing or petition for leave to intervene. Submissions should be in Portable Document Format (PDF) in accordance with NRC guidance available on the NRC's public Web site at http://www.nrc.gov/site-help/e-submittals.html. A filing is considered complete at the time the documents are submitted through the NRC's E-Filing system. To be timely, an electronic filing must be submitted to the E-Filing system no later than 11:59 p.m. Eastern Time on the due date. Upon receipt of a transmission, the E-Filing system time-stamps the document and sends the submitter an email notice confirming receipt of the document. The E-Filing system also distributes an email notice that provides access to the document to the NRC's Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system.

A person filing electronically using the NRC's adjudicatory E-Filing system may seek assistance by contacting the NRC Meta System Help Desk through the “Contact Us” link located on the NRC's public Web site at http://www.nrc.gov/site-help/e-submittals.html, by email to MSHD.Resource@nrc.gov, or by a toll-free call at 1-866-672-7640. The NRC Meta System Help Desk is available between 8 a.m. and 8 p.m., Eastern Time, Monday through Friday, excluding government holidays.

Participants who believe that they have a good cause for not submitting documents electronically must file an exemption request, in accordance with 10 CFR 2.302(g), with their initial paper filing requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville Pike, Rockville, Maryland 20852, Attention: Rulemaking and Adjudications Staff. Participants filing a document in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket which is available to the public at http://ehd1.nrc.gov/ehd/, unless excluded pursuant to an order of the Commission, or the presiding officer. Participants are requested not to include personal privacy information, such as social security numbers, home addresses, or home phone numbers in their filings, unless an NRC regulation or other law requires submission of such information. However, in some instances, a request to intervene will require including information on local residence in order to demonstrate a proximity assertion of interest in the proceeding. With respect to copyrighted works, except for limited excerpts that serve the purpose of the adjudicatory filings and would constitute a Fair Use application, participants are requested not to include copyrighted materials in their submission.

Petitions for leave to intervene must be filed no later than 60 days from the date of publication of this notice. Requests for hearing, petitions for leave to intervene, and motions for leave to file new or amended contentions that are filed after the 60-day deadline will not be entertained absent a determination by the presiding officer that the filing demonstrates good cause by satisfying the three factors in 10 CFR 2.309(c)(1)(i)-(iii).

For further details with respect to these license amendment applications, see the application for amendment which is available for public inspection in ADAMS and at the NRC's PDR. For additional direction on accessing information related to this document, see the “Obtaining Information and Submitting Comments” section of this document.

FirstEnergy Nuclear Operating Company, Docket No. 50-440, Perry Nuclear Power Plant (PNPP), Unit No. 1, Lake County, Ohio

Date of amendment request: October 29. 2015. A publicly-available version is in ADAMS under Accession No. ML15316A508.

Description of amendment request: The proposed amendment would revise the emergency action level scheme to be based on the Nuclear Energy Institute (NEI) guidance in NEI 99-01, “Development of Emergency Action Levels for Non-Passive Reactors,” Revision 6.

Basis for proposed no significant hazards consideration determination: As required by 10 CFR 50.91(a), the licensee has provided its analysis of the issue of no significant hazards consideration, which is presented below:

1. Does the proposed amendment involve a significant increase in the probability or consequences of an accident previously evaluated?

Response: No.

The proposed amendment affects the PNPP EP [Emergency Plan] and associated EALs [Emergency Action Level]; it does not alter the Operating License or the Technical Specifications. The proposed amendment does not change the design function of any system, structure, or component and does not change the way the plant is maintained or operated. The proposed amendment does not affect any accident mitigating feature or increase the likelihood of malfunction for plant structures, systems, and components.

The proposed amendment will not change any of the analyses associated with the PNPP Updated Safety Analysis Report Chapter 15 accidents because plant operation, structures, systems, components, accident initiators, and accident mitigation functions remain unchanged.

Therefore, the proposed amendment does not involve a significant increase in the probability or consequences of an accident previously evaluated.

2. Does the proposed amendment create the possibility of a new or different kind of accident from any accident previously evaluated?

Response: No.

The proposed amendment affects the PNPP EP and associated EALs; it does not alter the Operating License or the Technical Specifications. The proposed amendment does not change the design function of any system, structure, or component and does not change the way the plant is operated or maintained. The proposed amendment does not create a credible failure mechanism, malfunction, or accident initiator not already considered in the design and licensing basis.

Therefore, the proposed amendment does not create the possibility of a new or different kind of accident from any accident previously evaluated.

3. Does the proposed amendment involve a significant reduction in a margin of safety?

Response: No.

Safety margins are applied to design and licensing basis functions and to the controlling values of parameters to account for various uncertainties and to avoid exceeding regulatory or licensing limits. The proposed amendment affects the PNPP EP and associated EALs; it does not alter the Operating License or the Technical Specifications. The proposed amendment does not involve a physical change to the plant and does not change methods of plant operation within prescribed limits, and does not affect design and licensing basis functions or controlling values of parameters for plant systems, structures, and components.

Therefore, the proposed amendment does not involve a significant reduction in a margin of safety.

The NRC staff has reviewed the licensee's analysis and, based on this review, it appears that the three standards of 10 CFR 50.92(c) are satisfied. Therefore, the NRC staff proposes to determine that the amendment request involves no significant hazards consideration.

Attorney for licensee: David W. Jenkins, Attorney, FirstEnergy Corporation, Mail Stop A-GO-15, 76 South Main Street, Akron, OH 44308.

NRC Branch Chief: David L. Pelton.

Florida Power & Light Company, Docket Nos. 50-250 and 50-251, Turkey Point Nuclear Generating, Unit Nos. 3 and 4, Miami-Dade County, Florida

Date of amendment request: October 12, 2015. A publicly-available version is in ADAMS under Accession No. ML15300A264.

Description of amendment request: The amendment would revise the qualification requirements for licensed operators in the technical specifications for Turkey Point Nuclear Generating, Unit Nos. 3 and 4.

Basis for proposed no significant hazards consideration determination: As required by 10 CFR 50.91(a), the licensee has provided its analysis of the issue of no significant hazards consideration, which is presented below:

1. Does the proposed amendment involve a significant increase in the probability or consequences of an accident previously evaluated?

Response: No.

The proposed change is of an administrative nature and does not impact the physical configuration or function of plant structures, systems, or components (SSCs) or the manner in which SSCs are operated, maintained, modified, tested, or inspected. No actual facility equipment or accident analyses are affected by the proposed changes. Although licensed operator qualifications and training may have an indirect impact on accidents previously evaluated, the proposed change does not reduce any operator qualification or training requirements.

Therefore, the proposed change does not involve a significant increase in the probability or consequences of an accident previously evaluated.

2. Does the proposed amendment create the possibility of a new or different kind of accident from any accident previously evaluated?

Response: No.

The proposed change does not involve a physical alteration of the plant (no new or different type of equipment will be installed). The proposed change does not create any new failure modes for existing equipment or any new limiting single failures. Additionally, the proposed change does not involve a change in the methods governing normal plant operation and all safety functions will continue to perform as previously assumed in accident analyses. Thus, the proposed change does not adversely affect the design function or operation of any SSCs important to safety.

No new accident scenarios, failure mechanisms, or limiting single failures are introduced as a result of the proposed change. The proposed change does not challenge the performance or integrity of any safety-related system.

Therefore, the proposed change does not create the possibility of a new or different kind of accident from any previously evaluated.

3. Does the proposed amendment involve a significant reduction in a margin of safety?

Response: No.

The margin of safety associated with the acceptance criteria of any accident is unchanged. The proposed change will have no effect on the availability, operability, or performance of safety-related systems and components. The proposed change will not adversely affect the operation of plant equipment or the function of equipment assumed in the accident analysis.

The proposed change does not change or lessen the qualification requirements for licensed operators. One purpose of the 1987 rule change (Operators' Licenses and Conforming Amendments) was to improve the safety of nuclear power plant operations by improving the operator licensing process and examination content. The NRC reviewed the licensed operator training program experience guidelines in effect at the time of the 1987 rule change and determined that they were equivalent to the baseline experience criteria of Regulatory Guide 1.8, Revision 2, which was issued in conjunction with the rule change. The proposed change maintains licensed operator training and qualification requirements consistent with 10 CFR 55 and ensures properly qualified licensed operators operate the facility.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: William S. Blair, Managing Attorney—Nuclear, Florida Power & Light Company, 700 Universe Blvd., MS LAW/JB, Juno Beach, FL 33408-0420.

NRC Branch Chief: Benjamin G. Beasley.

Indiana Michigan Power Company, Docket No. 50-316, Donald C. Cook Nuclear Plant, Unit 2, Berrien County, Michigan

Date of amendment request: October 19, 2015. A publicly-available version is in ADAMS under Accession No. ML15293A497.

Description of amendment request: The proposed amendment would modify technical specifications (TSs) requirements for the Engineered Safety Feature Actuation System Instrumentation by adding a new Condition for inoperable required channels for main feedwater (MFW) pump trips, and by adding a footnote to the Applicable Mode column of TS Table 3.3.2-1 to reflect the new Condition.

Basis for proposed no significant hazards consideration determination: As required by 10 CFR 50.91(a), the licensee has provided its analysis of the issue of no significant hazards consideration, which is presented below:

1. Does the proposed amendment involve a significant increase in the probability or consequences of an accident previously evaluated?

Response: No.

The design basis events which impose initiation of the AFW [auxiliary feedwater] System requirements are loss of normal MFW, main steamline break, LOOP [loss of offsite power], and SBLOCA [small break loss-of-coolant accident]. These design bases event evaluations assume actuation of the AFW System due to LOOP signal, SG [steam generator] water level—low-low or a safety injection signal. The anticipatory motor driven AFW pump autostart signals from the MFW pumps are not credited in any DBAs [design basis accidents] and are, therefore, not part of the primary success path for postulated accident mitigation, as defined by 10 CFR 50.36(c)(2)(ii), Criterion 3. Modifying Completion Time clock activation requirements, providing a Condition and Required Actions for more than one inoperable channel for this function, and modifying Modes 1 and 2 Applicability for this function will not impact any previously evaluated design basis accidents.

Therefore, the proposed change does not involve a significant increase in the probability or consequences of an accident previously evaluated.

2. Does the proposed amendment create the possibility of a new or different kind of accident from any accident previously evaluated?

Response: No.

This TS change allows for one or more MFW pump channels to be inoperable during Modes 1 and 2 and has an operational allowance during Modes 1 and 2 for placing MFW pumps in service or securing MFW pumps. This change involves an anticipatory AFW auto-start function that is not credited in the accident analysis. Since this change only affects the conditions at which this auto-start function needs to be operable and does not affect the function that actuates AFW due to LOOP, low-low steam generator level or a safety injection signal, it will not be an initiator to a new or different kind of accident from any accident previously evaluated.

Therefore, the proposed amendment does not create the possibility of a new or different kind of accident from any accident previously evaluated.

3. Does the proposed amendment involve a significant reduction in a margin of safety?

Response: No.

This TS change involves the automatic start of the AFW pumps due to trip of both MFW pumps, which is not an assumed start signal for design basis events. This change does not modify any values or limits involved in a safety related function or accident analysis.

Therefore, the proposed amendment does not involve a significant reduction in a margin of safety.

The NRC staff has reviewed the analysis and, based on this review, it appears that the three standards of 10 CFR 50.92(c) are satisfied. Therefore, the NRC staff proposes to determine that the amendment request involves no significant hazards consideration.

Attorney for licensee: Robert B. Haemer, Senior Nuclear Counsel, One Cook Place, Bridgman, MI 49106.

NRC Branch Chief: David L. Pelton.

NextEra Energy Duane Arnold, LLC, Docket No. 50-331, Duane Arnold Energy Center, Linn County, Iowa

Date of amendment request: October 14, 2015. A publicly-available version is in ADAMS under Accession No. ML15289A233.

Description of amendment request: The amendment would replace references to Section XI of the American Society of Mechanical Engineers (ASME) Boiler and Pressure Vessel Code with reference to the ASME Code of Operation and Maintenance (OM Code) of Nuclear Power Plants in Technical Specification (TS) Section 5.5.6 for the Inservice Testing (IST) Program. In addition to the replacement of the references, it would also add a provision in TS Section 5.5.6 to only apply the extension allowance of Surveillance Requirement 3.0.2 to the frequency table listed in the TS as part of the IST Program and to normal and accelerated inservice testing frequencies of 2 years or less, as applicable.

Basis for proposed no significant hazards consideration determination: As required by 10 CFR 50.91(a), the licensee has provided its analysis of the issue of no significant hazards consideration, which is presented below:

1. Does the proposed change involve a significant increase in the probability or consequences of an accident previously evaluated?

Response: No.

The proposed changes revise TS Section 5.5.6 to conform to the requirements of 10 CFR 50.55a, “Codes and standards,” paragraph (f) regarding the inservice testing of pumps and valves. TS Section 5.5.6 currently references the ASME Boiler and Pressure Vessel Code, Section XI, requirements for the inservice testing of ASME Code Class 1, 2, and 3 pumps and valves. The proposed changes would reference the ASME OM Code as applicable, which is consistent with 10 CFR 50.55a, paragraph (f), “Inservice testing requirements.” In addition, the proposed changes clarify that the extension allowance of SR 3.0.2 only applies to the frequency table listed in the TS, if applicable, as part of the Inservice Testing Program and to normal and accelerated inservice testing frequencies of two years or less. The definitions of the frequencies are not changed by the requested amendment.

The proposed changes are administrative in nature, do not affect any accident initiators, do not affect the ability to successfully respond to previously evaluated accidents and do not affect radiological assumptions used in the evaluations. Thus, the probability or radiological consequences of any accident previously evaluated are not increased.

Therefore, the proposed changes do not involve a significant increase in the probability or consequences of an accident previously evaluated.

2. Does the proposed change create the possibility of a new or different kind of accident from any accident previously evaluated?

Response: No.

The proposed changes revise TS Section 5.5.6 to conform to the requirements of 10 CFR 50.55a(f) regarding the inservice testing of pumps and valves. TS Section 5.5.6 currently references the ASME Boiler and Pressure Vessel Code, Section XI, requirements for the inservice testing of ASME Code Class 1, 2, and 3 pumps and valves. The proposed changes would reference the ASME OM Code as applicable, which is consistent with 10 CFR 50.55a(f). In addition, the proposed changes clarify that the extension allowance of SR 3.0.2 only applies to the frequency table listed in the TS, if applicable, as part of the Inservice Testing Program and to normal and accelerated inservice testing frequencies of two years or less. The definitions of the frequencies are not changed by the requested amendment.

The proposed changes to TS Section 5.5.6 do not affect the performance of any structure, system, or component credited with mitigating any accident previously evaluated and do not introduce any new modes of system operation or failure mechanisms.

Therefore, the proposed changes do not create the possibility of a new or different kind of accident from any previously evaluated.

3. Does the proposed change involve a significant reduction in a margin of safety?

Response: No.

Margin of safety is related to confidence in the ability of the fission product barriers (fuel cladding, reactor coolant system, and primary containment) to perform their design functions during and following postulated accidents. The proposed changes do not affect the function of the reactor coolant pressure boundary or its response during plant transients. The proposed changes revise TS Section 5.5.6 to conform to the requirements of 10 CFR 50.55a(f) regarding the inservice testing of pumps and valves.

TS Section 5.5.6 currently references the ASME Boiler and Pressure Vessel Code, Section XI, requirements for the inservice testing of ASME Code Class 1, 2, and 3 pumps and valves. The proposed changes would reference the ASME OM Code as applicable, which is consistent with 10 CFR 50.55a(f). In addition, the proposed changes clarify that the extension allowance of Surveillance Requirement (SR) 3.0.2 only applies to the frequency table listed in the TS, if applicable, as part of the Inservice Testing Program and to normal and accelerated inservice testing frequencies of two years or less. The definitions of the frequencies are not changed by the requested amendment.

The proposed changes do not alter the manner in which safety limits, limiting safety system settings or limiting conditions for operation are determined. The safety analysis acceptance criteria are not affected by this change. The proposed change will not result in plant operation in a configuration outside the design basis. The proposed change does not adversely affect systems that respond to safely shutdown the plant and to maintain the plant in a safe shutdown condition.

Therefore, the proposed changes do not involve a significant reduction in a margin of safety.

The NRC staff has reviewed the licensee's analysis and, based on this review, it appears that the three standards of 10 CFR 50.92(c) are satisfied. Therefore, the NRC staff proposes to determine that the amendment request involves no significant hazards consideration.

Attorney for licensee: Mr. William Blair, Florida Power & Light Company, P.O. Box 14000, Juno Beach, FL 33408-0420.

NRC Branch Chief: David L. Pelton.

III. Notice of Issuance of Amendments to Facility Operating Licenses and Combined Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR Chapter I, which are set forth in the license amendment.

A notice of consideration of issuance of amendment to facility operating license or combined license, as applicable, proposed no significant hazards consideration determination, and opportunity for a hearing in connection with these actions, was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) the applications for amendment, (2) the amendment, and (3) the Commission's related letter, Safety Evaluation and/or Environmental Assessment as indicated. All of these items can be accessed as described in the “Obtaining Information and Submitting Comments” section of this document.

Dominion Nuclear Connecticut, Inc., Docket No. 50-423, Millstone Power Station, Unit No. 3 (MPS3), New London County, Connecticut

Date of amendment request: May 8, 2014, as supplemented by letters dated August 14, October 15, and October 16, 2014, and May 18 and July 27, 2015.

Brief description of amendment: The amendment revised the MPS3 Technical Specification (TS) 3/4.3.1, “Reactor Trip System Instrumentation,” and TS 3/4.3.2, “Engineered Safety Features Actuation System [ESFAS] Instrumentation,” to adopt the Completion Time (CT) and bypass test time changes in NRC approved Westinghouse Electric Company LLC's Topical Reports WCAP-14333-P-A, Revision 1, “Probabilistic Risk Analysis of the RPS [Reactor Protection System] and ESFAS Test Times and Completion Times,” October 1998, and WCAP-15376-P-A, Revision 1, “Risk-Informed Assessment of the RTS [Reactor Trip System] and ESFAS Surveillance Test Intervals and Reactor Trip Breaker Test and Completion Times,” March 2003. The amendment extended the CTs and bypass test times for several required actions in TS 3/4.3.1 and TS 3/4.3.2.

Date of issuance: November 30, 2015.

Effective date: As of the date of issuance and shall be implemented within 90 days from the date of issuance.

Amendment No.: 266. A publicly-available version is in ADAMS under Accession No. ML15288A004; documents related to this amendment are listed in the Safety Evaluation enclosed with the amendment.

Renewed Facility Operating License No. NPF-49: Amendment revised the Renewed Facility Operating License and TSs.

Date of initial notice in Federal Register: December 23, 2014 (79 FR 77044). The supplemental letters dated May 18 and July 27, 2015, provided additional information that clarified the application, did not expand the scope of the application as originally noticed, and did not change the staff's original proposed no significant hazards consideration determination as published in the Federal Register.

The Commission's related evaluation of the amendment is contained in a Safety Evaluation dated November 30, 2015.

No significant hazards consideration comments received: No.

Exelon Generation Company, LLC, Docket Nos. STN 50-454 and STN 50-455, Byron Station, Unit Nos. 1 and 2, Ogle County, Illinois

Date of amendment request: November 24, 2014.

Brief description of amendments: The amendments revised Condition I and Surveillance Requirement 3.7.9.3 associated with Technical Specification (TS) Section 3.7.9, “Ultimate Heat Sink (UHS).” The changes reflect the current design basis flood level and ensure the operability of the service water makeup pumps to meet TS, Section 3.7.9 limiting condition for operation requirement.

Date of issuance: November 30, 2015.

Effective date: As of the date of issuance and shall be implemented within 90 days of issuance.

Amendment Nos.: 193. A publicly-available version is in ADAMS under Accession No. ML15280A297; documents related to these amendments are listed in the Safety Evaluation enclosed with the amendments.

Renewed Facility Operating License Nos. NPF-37 and NPF-66: Amendments revised the TSs and Renewed Facility Operating License.

Date of initial notice in Federal Register: March 31, 2015 (80 FR 17088).

The Commission's related evaluation of the amendments is contained in a Safety Evaluation dated November 30, 2015.

No significant hazards consideration comments received: No.

Exelon Generation Company, LLC, Docket No. 50-410, Nine Mile Point Nuclear Station, Unit 2, Oswego County, New York

Date of amendment request: November 19, 2014, as supplemented by letters dated July 10, 2015; September 10, 2015; and September 24, 2015.

Brief description of amendment: The amendment revised the technical specifications (TSs) to require that changes to specific surveillance frequencies will be made in accordance with Nuclear Energy Institute 04-10, Revision 1, “Risk-Informed Technical Specifications Initiative 5b, Risk-Informed Method for Control of Surveillance Frequencies” (ADAMS Accession No. ML071360456). The change is the adoption of NRC-approved Technical Specification Task Force (TSTF) Standard Technical Specifications Change Traveler TSTF-425, Revision 3, “Relocate Surveillance Frequencies to Licensee Control—RITSTF [Risk-Informed TSTF] Initiative 5b” (ADAMS Accession No. ML090850642). The Federal Register notice published on July 6, 2009 (74 FR 31996), announced the availability of TSTF-425, Revision 3.

Date of issuance: November 30, 2015.

Effective date: As of the date of issuance and shall be implemented within 120 days of issuance.

Amendment No.: 152. A publicly-available version is in ADAMS under Accession No. ML15317A307; documents related to this amendment are listed in the Safety Evaluation enclosed with the amendment.

Renewed Facility Operating License No. NPF-69: Amendment revised the Renewed Facility Operating License and TSs.

Date of initial notice in Federal Register: March 17, 2015 (80 FR 13906). The supplemental letters dated July 10, 2015; September 10, 2015; and September 24, 2015, provided additional information that clarified the application, did not expand the scope of the application as originally noticed, and did not change the staff's original proposed no significant hazards consideration determination as published in the Federal Register.

The Commission's related evaluation of the amendment is contained in a Safety Evaluation dated November 30, 2015.

No significant hazards consideration comments received: No.

Exelon Generation Company, LLC, Docket No. 50-244, R.E. Ginna Nuclear Power Plant, Wayne County, New York

Date of amendment request: March 28, 2013, as supplemented by letters dated December 17, 2013; January 29, February 28, September 5, September 24, and December 4, 2014; and March 18, June 11, and August 7, 2015.

Brief description of amendment: The amendment adopted a new risk-informed performance-based fire protection licensing basis, which complies with the requirements in 10 CFR Sections 50.48(a) and 50.48(c), the guidance in Regulatory Guide 1.205, “Risk-Informed Performance-Based Fire Protection for Existing Light-Water Nuclear Power Plants,” Revision 1, and National Fire Protection Association 805, “Performance-Based Standard for Fire Protection for Light Water Reactor Electric Generating Plants,” 2001 Edition. The amendment also follows the guidance in Nuclear Energy Institute 04-02, “Guidance for Implementing a Risk-Informed, Performance-Based Fire Protection Program Under 10 CFR 50.48(c),” Revision 2.

Date of issuance: November 23, 2015.

Effective date: As of the date of issuance to be implemented as described in the transition license conditions.

Amendment No.: 119. A publicly-available version is in ADAMS under Accession No. ML15271A101; documents related to this amendment are listed in the Safety Evaluation enclosed with the amendment.

Renewed Facility Operating License No. DPR-18: Amendment revised the Renewed Facility Operating License and Technical Specifications.

Date of initial notice in Federal Register: November 4, 2014 (79 FR 65430). The supplemental letters dated December 17, 2013; January 29, February 28, September 5, September 24, and December 4, 2014; and March 18, June 11, and August 7, 2015, provided additional information that clarified the application, did not expand the scope of the application as originally noticed, and did not change the staff's original proposed no significant hazards consideration determination as published in the Federal Register.

The Commission's related evaluation of the amendment is contained in a Safety Evaluation dated November 23, 2015.

No significant hazards consideration comments received: No.

FirstEnergy Nuclear Operating Company, et al., Docket Nos. 50-334 and 50-412, Beaver Valley Power Station, Unit Nos. 1 and 2, Beaver County, Pennsylvania

Date of amendment request: March 19, 2015, as supplemented by letter dated May 6, 2015.

Brief description of amendments: The amendment request contained sensitive unclassified non-safeguards information (SUNSI). The amendment changed the Beaver Valley Power Station, Unit Nos. 1 and 2, Facility Operating Licenses. Specifically, the license amendments revised the Cyber Security Plan Milestone 8 full implementation date as set forth in the cyber security plan implementation schedule.

Date of issuance: December 1, 2015.

Effective date: As of the date of issuance and shall be implemented within 30 days of issuance.

Amendment Nos.: 295 (Unit 1) and 183 (Unit 2). A publicly-available version is in ADAMS under Accession No. ML15302A433; documents related to these amendments are listed in the Safety Evaluation enclosed with the amendments.

Facility Operating License Nos. DPR-66 and NPF-73: Amendments revised the Facility Operating Licenses.

Date of initial notice in Federal Register: July 7, 2015 (80 FR 38774).

The Commission's related evaluation of the amendment is contained in a Safety Evaluation dated December 1, 2015.

No significant hazards consideration comments received: No.

Indiana Michigan Power Company, Docket No. 50-315, Donald C. Cook Nuclear Plant, Unit 1, Berrien County, Michigan

Date of amendment request: October 8, 2013, as supplemented by letters dated April 29, 2014; June 5, 2014; July 3, 2014; September 30, 2014; and September 18, 2015.

Brief description of amendment: The amendment increased the normal reactor coolant system temperature and pressure at the Donald C. Cook Nuclear Plant, Unit 1, consistent with previously licensed conditions. The amendment modified the Unit 1 technical specifications (TSs) and licensing basis associated with this change.

Date of issuance: November 30, 2015.

Effective date: As of the date of issuance and shall be implemented within 180 days from the date of issuance.

Amendment No.: 329. A publicly-available version is in ADAMS under Accession No. ML14197A097; documents related to this amendment are listed in the Safety Evaluation enclosed with the amendment.

Renewed Facility Operating License No. DPR-58: Amendment revised the Renewed Facility Operating License and TSs.

Date of initial notice in Federal Register: February 19, 2014 (79 FR 9495). The supplemental letters dated April 29, 2014; June 5, 2014; July 3, 2014; September 30, 2014; and September 18, 2015, provided additional information that clarified the application, did not expand the scope of the application as originally noticed, and did not change the staff's original proposed no significant hazards consideration determination as published in the Federal Register.

The Commission's related evaluation of the amendment is contained in a Safety Evaluation dated November 30, 2015.

No significant hazards consideration comments received: No.

NextEra Energy, Point Beach, LLC, Docket Nos. 50-266 and 50-301, Point Beach Nuclear Plant, Units 1 and 2, Town of Two Rivers, Manitowoc County, Wisconsin

Date amendment request: March 27, 2015.

Brief description of amendments: The amendments incorporated the guidance of Technical Specification Task Force Traveler (TSTF)-510, Revision 2, “Revision to Steam Generator Program Inspection Frequencies and Tube Sample Selection.” The guidance in TSTF-510 revises TS 3.4.17, “Steam Generator (SG) Tube Integrity”; TS 5.5.8, “Steam Generator (SG) Program”; and TS 5.6.8, “Steam Generator Tube Inspection Report.”

Date of issuance: November 25, 2015.

Effective date: As of the date of issuance and shall be implemented within 60 days of issuance.

Amendment Nos.: 254 (Unit 1) and 258 (Unit 2). A publicly-available version is in ADAMS under Accession No. ML15293A457; documents related to these amendments are listed in the Safety Evaluation enclosed with the amendments.

Renewed Facility Operating License Nos. DPR-24 and DPR-27: Amendments revised the Facility Operating License and Technical Specifications.

Date of initial notice in Federal Register: June 9, 2015 (80 FR 32627).

The Commission's related evaluation of the amendments is contained in a Safety Evaluation dated November 25, 2015.

No significant hazards consideration comments received: No.

Northern States Power Company—Minnesota, Docket Nos. 50-282 and 50-306, Prairie Island Nuclear Generating Plant, Units 1 and 2, Goodhue County, Minnesota

Date of amendment request: December 11, 2014.

Brief description of amendments: The amendments revised Technical Specification (TS) 3.3.3, “Event Monitoring (EM) Instrumentation,” to add steam generator water level—narrow range instruments to Table 3.3.3-1, and to revise Appendix B, Additional Conditions, of the Renewed Facility Operating Licenses to support Alternate Source Term implementation at the Prairie Island Nuclear Plant, Units 1 and 2.

Date of issuance: November 30, 2015.

Effective date: As of the date of issuance and shall be implemented within 90 days of issuance.

Amendment Nos.: 216 (Unit 1) and 204 (Unit 2). A publicly-available version is in ADAMS under Accession No. ML15264A209; documents related to these amendments are listed in the Safety Evaluation enclosed with the amendments.

Renewed Facility Operating License Nos. DPR-42 and DPR-60: Amendments revised the Renewed Facility Operating Licenses and TSs.

Date of initial notice in Federal Register: April 14, 2015 (80 FR 20023).

The Commission's related evaluation of the amendments is contained in a Safety Evaluation dated November 30, 2015.

No significant hazards consideration comments received: No.

Pacific Gas and Electric Company, Docket Nos. 50-275 and 50-323, Diablo Canyon Nuclear Power Plant (DCPP), Units 1 and 2, San Luis Obispo County, California

Date of application for amendments: October 2, 2014.

Brief description of amendments: The amendments consisted of changes to the licensing basis as described in DCPP Updated Final Safety Analysis Report (UFSAR) Sections 3.6.2.1.1.1, “Reactor Coolant System Main Loop Piping (Leak-Before-Break),” and 4.2.1.1.2, “Fuel Assembly Structure.” The amendments revised the UFSAR to document that the fuel assembly structural analyses are based on a pipe break location that considers the application of leak-before-break and the results of the fuel assembly structural analyses are used as an input to demonstrate compliance with 10 CFR 50.46(b)(4).

Date of issuance: December 3, 2015.

Effective date: As of the date of issuance and shall be implemented within 120 days from the date of issuance.

Amendment Nos.: 221 (Unit 1) and 223 (Unit 2). A publicly-available version is in ADAMS under Accession No. ML15281A164; documents related to these amendments are listed in the Safety Evaluation enclosed with the amendments.

Facility Operating License Nos. DPR-80 and DPR-82: The amendments revised the Facility Operating Licenses.

Date of initial notice in Federal Register: March 3, 2015 (80 FR 11496).

The Commission's related evaluation of the amendments is contained in a Safety Evaluation dated December 3, 2015.

No significant hazards consideration comments received: No.

PSEG Nuclear LLC, Docket No. 50-354, Hope Creek Generating Station, Salem County, New Jersey

Date of amendment request: November 25, 2014.

Brief description of amendment: The amendment revised Technical Specification (TS) Surveillance Requirement 4.7.2.1.1.b to reduce the required run time of the control room emergency filtration subsystems, with heaters on, from at least 10 hours to at least 15 continuous minutes, consistent with Technical Specification Task Force Traveler-522, Revision 0, “Revise Ventilation System Surveillance Requirements to Operate for 10 hours per Month,” with minor variations.

Date of issuance: November 30, 2015.

Effective date: As of the date of issuance and shall be implemented within 60 days of issuance.

Amendment No.: 199. A publicly-available version is in ADAMS under Accession No. ML15286A091; documents related to this amendment are listed in the Safety Evaluation (SE) enclosed with the amendment.

Renewed Facility Operating License No. NPF-57: Amendment revised the Renewed Facility Operating License and TSs.

Date of initial notice in Federal Register: January 20, 2015 (80 FR 2751).

The Commission's related evaluation of the amendment is contained in an SE dated November 30, 2015.

No significant hazards consideration comments received: Yes. The comment received on Amendment No. 199 is addressed in the SE dated November 30, 2015.

Tennessee Valley Authority, Docket Nos. 50-259, 50-260, and 50-296, Browns Ferry Nuclear Plant, Units 1, 2, and 3, Limestone County, Alabama

Date of amendment request: March 9, 2015, as supplemented by letter dated July 10, 2015.

Brief description of amendments: The amendments adopted NRC-approved Technical Specifications Task Force (TSTF) Standard Technical Specifications Change Traveler TSTF-535, “Revise Shutdown Margin Definition to Address Advanced Fuel Designs” (ADAMS Accession No. ML112200436), Revision 0, dated August 8, 2011, revising the Technical Specification (TS) definition of shutdown margin (SDM) to require calculation of SDM at the reactor moderator temperature corresponding to the most reactive state throughout the operating cycle (68 degrees Fahrenheit (°F) or higher). The purpose is to address the boiling water reactor fuel designs, which may be more reactive at shutdown temperatures above 68 °F.

Date of issuance: December 4, 2015.

Effective date: As of the date of issuance and shall be implemented within 60 days of issuance.

Amendment Nos.: 291 (Unit 1), 316 (Unit 2), and 274 (Unit 3). A publicly-available version is in ADAMS under Accession No. ML15287A371, documents related to these amendments are listed in the Safety Evaluation (SE) enclosed with the amendments.

Renewed Facility Operating License Nos. DPR-33, DPR-52, and DPR-68: Amendments revised the Facility Operating Licenses and TSs.

Date of initial notice in Federal Register: June 23, 2015 (80 FR 35985). The supplemental letter dated July 10, 2015, provided additional information that clarified the application, did not expand the scope of the application as originally noticed, and did not change the staff's original proposed no significant hazards consideration determination as published in the Federal Register.

The Commission's related evaluation of the amendments is contained in an SE dated December 4, 2015.

No significant hazards consideration comments received: No.

Tennessee Valley Authority, Docket Nos. 50-327 and 50-328, Sequoyah Nuclear Plant, Units 1 and 2, Hamilton County, Tennessee

Date of amendment request: December 2, 2014, as supplemented by letters dated September 11, 2015, and October 23, 2015.

Brief description of amendments: The amendments revised Technical Specification (TS) 6.8.4.h (Improved Standard TS 5.5.14), “Containment Leakage Rate Testing Program,” by adopting Nuclear Energy Institute 94-01, Revision 3-A, “Industry Guideline for Implementing Performance-Based Option of 10 CFR [title 10 of the Code of Federal Regulations] part 50, Appendix J,” as the implementation document for the performance-based Option B of 10 CFR part 50, appendix J. The proposed changes would permanently extend the Type A containment integrated leak rate testing interval from 10 years to 15 years and the Type C local leakage rate testing intervals from 60 months to 75 months.

Date of issuance: November 30, 2015.

Effective date: As of the date of issuance and shall be implemented within 30 days of issuance.

Amendment Nos.: 335 (Unit 1) and 328 (Unit 2). A publicly-available version is in ADAMS under Accession No. ML15320A218; documents related to these amendments are listed in the Safety Evaluation (SE) enclosed with the amendments.

Renewed Facility Operating License Nos. DPR-77 and DPR-79: Amendments revised the Renewed Facility Operating Licenses and TSs.

Date of initial notice in Federal Register: March 17, 2015 (80 FR 13914). The supplemental letters dated September 11, 2015, and October 23, 2015, provided additional information that clarified the application, did not expand the scope of the application as originally noticed, and did not change the staff's original proposed no significant hazards consideration determination as published in the Federal Register.

The Commission's related evaluation of the amendments is contained in an SE dated November 30, 2015.

No significant hazards consideration comments received: No.

Dated at Rockville, Maryland, this 10th day of December 2015.
For the Nuclear Regulatory Commission.
George A. Wilson, Jr.,
Deputy Director, Division of Operating Reactor Licensing, Office of Nuclear Reactor Regulation.

[FR Doc. 2015-31754 Filed 12-21-15; 8:45 am]

BILLING CODE 7590-01-P